OFFICE OF THE UNITED STATES TRADE REPRESENTATIVE

[Docket No. 301-121]

Notice of Rescheduling in the Section 302 Investigation of the Intellectual Property Laws and Practices of the Government of Ukraine

AGENCY: Office of the United States Trade Representative.

ACTION: Notice.

SUMMARY: The public hearing in the investigation of the Intellectual Property Laws and Practices of the Government of Ukraine is rescheduled for 10 am on September 25, 2001. Rebuttal comments are due by September 28, 2001.

ADDRESSES: Rebuttal comments should be submitted to Sybia Harrison, Staff Assistant to the Section 301 Committee, ATTN: Docket 301-121, Office of the United States Trade Representative, 1724 F Street, NW., Room 217, Washington, DC 20508. The public hearing will be held at the Office of the United States Trade Representative, 1724 F Street, NW., Rooms 1 and 2, Washington, DC.

FOR FURTHER INFORMATION CONTACT: Sybia Harrison, Staff Assistant to the Section 301 Committee, (202) 395-3419; or William Busis, Office of the General Counsel, Office of the United States Trade Representative, (202) 395-3150.

SUPPLEMENTARY INFORMATION: On August 10, 2001, the Office of the United States Trade Representative published a notice entitled Determination of Action To Suspend GSP Benefits Under Section 301(b); Further Proposed Action and Publication of Preliminary Product List; and Request for Public Comment: Intellectual Property Laws and Practices of the Government of Ukraine (66 FR 42246). As indicated above, the date for the public hearing and the due date for rebuttal comments have been rescheduled.

William Busis,
Chairman, Section 301 Committee.

[FR Doc. 01-23802 Filed 9-21-01; 8:45 am]

BILLING CODE 3190-01-P